DEPARTMENT OF HOMELAND SECURITY

Bureau of Customs and Border Protection

19 CFR Part 101

[USCBP-2005-0035; CBP Dec. 09-16]

Extension of Port Limits of St. Louis, MO

AGENCY: Customs and Border Protection, DHS.

ACTION: Final rule.

SUMMARY: This document amends the Department of Homeland Security (DHS) regulations pertaining to Customs and Border Protection's (CBP's) field organization by extending the geographical limits of the port of St. Louis, Missouri to include the entire expanded Lambert-St. Louis International Airport. The change is part of CBP's continuing program to more efficiently utilize its personnel, facilities, and resources, and to provide better service to carriers, importers, and the general public.

DATES: Effective Date: June 17, 2009.

FOR FURTHER INFORMATION CONTACT: Wendy M. Cooper, Office of Field Operations, 202-344-2057.

SUPPLEMENTARY INFORMATION:

I. Background

In a Notice of Proposed Rulemaking (NPRM) published in the Federal Register (71 FR 47156) on August 16, 2006, CBP proposed to amend the list of CBP ports of entry at 19 CFR 101.3(b)(1) to extend the geographical limits of the St. Louis, Missouri port of entry.

The current port limits of the St. Louis, Missouri, port of entry are described in Treasury Decision (T.D.) 69-224, effective September 27, 1969. In the NPRM, CBP explained that the Lambert-St. Louis International Airport was located within the boundaries of these port limits. However, at the time the NPRM was published, the airport had initiated an expansion project, which, when completed, would place part of the airport outside of the port's current boundaries. Accordingly, so that the entire airport would be within the port's boundaries and to make the boundaries more easily identifiable to the public, CBP proposed to extend the port limits of the port of St. Louis, Missouri in such a way that would align the port boundaries with the Federal Interstate Highways that encircle the St. Louis metropolitan area. CBP determined that this proposed change in the boundaries of the port of St. Louis, Missouri, would not result in a change in the service that is provided to the public by the port, nor would it require a change in the staffing or workload at the port.

II. Analysis of Comments and Conclusion

CBP did not receive any comments in response to the NPRM. With the expansion of the airport being completed as scheduled, CBP is extending the geographical limits of the port of St. Louis, Missouri, as proposed in the NPRM. CBP believes that the inclusion of the entire airport within the port limits and alignment of the port boundaries with the Federal Interstate highways that encircle the St. Louis area will enable CBP to more efficiently utilize its personnel, facilities, and resources, and to provide better service to carriers, importers, and the general public. The port of entry description of St. Louis, Missouri, will be revised as proposed in the NPRM.

III. Port Description of St. Louis, Missouri

The port limits of St. Louis, Missouri, are as follows: Beginning at the point where Federal Interstate Highway 270 crosses the Mississippi River; thence west, southwest, south and southeast, along Federal Interstate Highway 270 to the point where it becomes Federal Interstate Highway 255; thence southeast on Federal Interstate Highway 255 across the Mississippi River; thence north and east to the point where Federal Interstate Highway 255 intersects with Federal Interstate Highway 270; thence west along Federal Interstate Highway 270 to the Mississippi River, the point of beginning.

IV. Authority

This change is made under the authority of 5 U.S.C. 301; 19 U.S.C. 2, 66, and 1624; and 6 U.S.C. 203.

V. Statutory and Regulatory Reviews

A. Executive Order 12866: Regulatory Planning and Review

This rule is not considered to be an economically significant regulatory action under Executive Order 12866, because it will not result in the expenditure of over $100 million in any one year. The change is intended to expand the geographical boundaries of the Port of St. Louis, Missouri, and make it more easily identifiable to the public. There are no new costs to the public associated with this rule. Accordingly, this rule has not been reviewed by the Office of Management and Budget (OMB) under Executive Order 12866.

B. Regulatory Flexibility Act

The Regulatory Flexibility Act (5 U.S.C. 601 et seq.) requires Federal agencies to examine the impact a rule would have on small entities. A small entity may be a small business (defined as any independently owned and operated business not dominant in its field that qualifies as a small business per the Small Business Act), a small not-for-profit organization, or a small governmental jurisdiction (locality with fewer than 50,000 people).

This rule does not directly regulate small entities. The change is part of CBP's continuing program to more efficiently utilize its personnel, facilities, and resources, and to provide better service to carriers, importers, and the general public. To the extent that all entities are able to more efficiently or conveniently access the facilities and resources within the expanded geographical area of the new port limits, this rule should confer benefits to CBP, carriers, importers, and the general public.

Because this rule does not directly regulate small entities, CBP certifies that this rule does not have a significant economic impact on a substantial number of small entities.

VI. Signing Authority

The signing authority for this document falls under 19 CFR 0.2(a), because the port extension is not within the bounds of those regulations for which the Secretary of the Treasury has retained sole authority. Accordingly, this final rule may be signed by the Secretary of Homeland Security (or his or her delegate).

List of Subjects in 19 CFR Part 101

Customs duties and inspection, Customs ports of entry, Exports, Imports, Organization and functions (Government agencies).

Amendments to CBP Regulations

For the reasons set forth above, part 101, CBP Regulations (19 CFR part 101) are amended as set forth below.

PART 101—GENERAL PROVISIONS

1. The general authority citation for part 101 and the specific authority citation for section 101.3 continue to read as follows:

Authority: 5 U.S.C. 301; 19 U.S.C. 2, 66, 1202 (General Note 3(i), Harmonized Tariff Schedule of the United States), 1623, 1624, 1646a.

Sections 101.3 and 101.4 also issued under 19 U.S.C. 1 and 58b;

* * * * *

2. In the list of ports in section 101.3(b)(1), under the State of Missouri, the “Limits of port” column adjacent to “St. Louis” in the “Ports of entry” column is amended by removing the language “Including territory described in T.D.s 67-57 and 69-224” and adding in its place “CBP Dec. 09-16.”

Dated: May 13, 2009.
Janet Napolitano,
Secretary.

[FR Doc. E9-11538 Filed 5-15-09; 8:45 am]

BILLING CODE 9111-14-P